DEPARTMENT OF THE INTERIOR

Bureau of Land Management

[UT-020-5101-ER7-J217]

Correction to Notice of Intent to Prepare an Environmental Impact Statement to Analyze PacifiCorp's Mona to Oquirrh Double-Circuit 50/345 Kilovolt (kV) Transmission Line, UT-82829, and Amend the Pony Express Resource Management Plan for the Salt Lake Field Office, Utah. (Federal Register; October 16, 2007, Volume 72, Number 199, Page 58681-58682)

AGENCY: Bureau of Land Management, Interior.

ACTION: Correction notice.

SUMMARY: The following corrections are made: Three scoping meetings (West Jordan, Tooele, and Nephi, Utah) will be held during the scoping period. The Mona to Oquirrh Transmission Line project Web site is http://www.monatransmission.com.

All other information within the Notice of Intent (10/16/07) remains unchanged.

Dated: October 30, 2007.
Kent Hoffman,
Acting Utah State Director.

[FR Doc. 07-5469 Filed 11-2-07; 8:45 am]

BILLING CODE 5101-$$-M